DEPARTMENT OF LABOR

Employment and Training Administration

[TA-W-38,802, et al.]

Inman Mills; Amended Certification Regarding Eligibility To Apply for Worker Adjustment Assistance

In accordance with section 223 of the Trade Act of 1974 (19 U.S.C. 2273) the Department of Labor issued a Notice of Certification of Eligibility to Apply for Worker Adjustment Assistance on May 17, 2001, applicable to workers of Inman Mills, Inman, South Carolina. The notice was published in the Federal Register on May 25, 2001 (66 FR 28928).

At the request of the State agency and the company, the Department reviewed the certification for workers of the subject firm. New findings show that the Department incorrectly identified the subject firm title name in its entirety. The Department is amending the certification determination to correctly identify the subject firm title name to read “Inman Mills, Inman Plant and Saybrook Plant, Inman, South Carolina”.

Findings also show that worker separations occurred at the subject firms' three Enoree, South Carolina facilities: Riverdale Plant, Mountain Shoals Plant and the Ramey Plant. The workers are engaged in the production of greige goods.

Worker separations also occurred at the subject firms' Corporate Office in Inman, South Carolina and at the New York Sales Office, New York, New York. The workers provide administrative support functions, purchasing, payroll and sales services for the subject firm.

Accordingly, the Department is amending the determination to properly reflect these matters.

The intent of the Department's certification is to include all workers of Inman Mills adversely affected by increased imports of greige goods.

The amended notice applicable to TA-W-38,802 is hereby issued as follows:

All workers of Inman mills, Inman Plant, Inman, South Carolina (TA-W-38,802); Saybrook Plant, Inman, South Carolina (TA-W-38,802A); Riverdale Plant, Enoree, South Carolina (TA-W-38,802B); Mountain Shoals Plant, Enoree, South Carolina (TA-W-38,802C); Ramey Plant, Enoree, South Carolina (TA-W-38,802D); Corporate Office, Inman, South Carolina (TA-W-38,802E) and New York Sales Office, New York, New York (TA-W-38,802F) who became totally or partially separated from employment on or after February 23, 2000, through May 17, 2003, are eligible to apply for adjustment assistance under Section 223 of the Trade Act of 1974.

Signed at Washington, D.C. this 16th day of July, 2001.
Linda G. Poole,
Certifying Officer, Division of Trade Adjustment Assistance.

[FR Doc. 01-18622 Filed 7-25-01; 8:45 am]

BILLING CODE 4510-30-M